DEPARTMENT OF COMMERCE

National Oceanic and Atmospheric Administration

50 CFR Part 216

[Docket No. 070809454-7459-01]

RIN 0648-AV82

Marine Mammals; Advance Notice of Proposed Rulemaking

AGENCY: National Marine Fisheries Service (NMFS), National Oceanic and Atmospheric Administration (NOAA), Commerce.

ACTION: Advance notice of proposed rulemaking (ANPR); extension of comment period.

SUMMARY: On September 13, 2007, NMFS published an ANPR soliciting public comments on revisions to its implementing regulations at 50 CFR part 216 governing the issuance of permits for scientific research and enhancement activities involving marine mammals. Written comments were due by November 13, 2007. NMFS has decided to allow additional time for submission of public comments on this action.

DATES: The public comment period for this action has been extended for 30 days. Written comments must be received or postmarked by December 13, 2007.

ADDRESSES: You may submit comments by any one of the following methods:

• E-mail: NMFS.Pr1Comments@noaa.gov and include in the subject line the following document identifier: Permit Regulations ANPR;

• Via the Federal eRulemaking Portal: http://www.regulations.gov;

• Fax: 301-427-2521, Attn: Chief, Permits, Conservation and Education Division (Permit Regulations ANPR); or

• Mail: Chief, Permits, Conservation and Education Division, Attn: Permit Regulations ANPR, Office of Protected Resources, NMFS, 1315 East-West Highway, Room 13705, Silver Spring, MD 20910.

Instructions: All comments received are part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Amy Sloan at (301) 713-2289.

SUPPLEMENTARY INFORMATION: The ANPR, published on September 13, 2007 (72 FR 52339), is available upon request and can be found on the NMFS Office of Protected Resources web site: http://www.nmfs.noaa.gov/pr/permits/mmpa_anpr.htm.

Dated: October 9, 2007
P. Michael Payne,
Chief, Permits, Conservation and Education Division, Office of Protected Resources, National Marine Fisheries Service.

[FR Doc. E7-20229 Filed 10-12-07; 8:45 am]

BILLING CODE 3510-22-S